DEPARTMENT OF ENERGY

Federal Energy Regulatory Commission

[Docket Nos. CP93-148-001, et al.]

Sea Robin Pipeline Company; Notice of Compliance Filing

December 1, 2000.

Take notice that on November 6, 2000, Sea Robin Pipeline Company (Sea Robin) tendered for filing, as part of its FERC Gas Tariffs, First Revised Volume No. 1 and Original Volume No.2, revised tariff sheets to comply with ordering paragraph (A) of the Federal Energy Regulatory Commission's April 1, 1993, Order Approving Abandonment in the referenced dockets. Sea Robin's tariff sheets reflect cancellation of Rate Schedules X-14, X-15, X-16, X-17, X-21, X-24, X-27, X-28, and X-32.

Sea Robin states that a copy of this filing is available for public inspection during regular business hours at Sea Robin's office at 5444 Westheimer Road, Houston, Texas 77056-5036. In addition, copies of this filing are being served on parties to the proceeding and appropriate state regulatory agencies.

Any person desiring to be heard or to protest this filing should file a motion to intervene or protest with the Federal Energy Regulatory Commission, 888 First Street, NE., Washington, DC 20426, in accordance with Sections 385.211 and 384.214 of the Commission's Rules of Practices and Procedures. All such motions or protests must be filed not later than December 13, 2000. Protests will be considered by the Commission in determining the appropriate action to be taken, but will not serve to make protestants parties to the proceeding. Any person wishing to become a party must file a motion to intervene. Copies of this filing are on file with the Commission and are available for public inspection in the Public Reference Room. This filing may be viewed on the web at http://www.ferc.fed.us/online/rims.htm (call 202-208-2222 for assistance). Applicant's designated contact person is Anna Cochrane at 202-293-5794. Comments and protests may be filed electronically via the internet in lieu of paper. See, 18 CFR 385.2001(a)(1)(iii) and the instructions on the Commission's web site at ­ http://www.ferc.fed.us/efi/doorbell.htm.

David P. Boergers,
Secretary.

[FR Doc. 00-31126 Filed 12-06-00; 8:45 am]

BILLING CODE 6717-01-M